DEPARTMENT OF HOMELAND SECURITY

Information Collection Authority Under Homeland Security Acquisition Regulation (HSAR)

AGENCY: Office of Chief Procurement Officer, Acquisition Policy and Legislation Office, DHS.

ACTION: Submission for OMB review; comment request.

SUMMARY: The Department of Homeland Security, Office of the Chief Procurement Officer, Acquisition Policy and Legislation Office, has submitted the following information collection request (ICR) to the Office of Management and Budget (OMB) for review and clearance in accordance with the Paperwork Reduction Act of 1995 (Pub. L. 104-13, 44 U.S.C. Chapter 35). The Office of the Chief Procurement Officer is soliciting comments concerning an extension to an existing collection, Information collection authority under Homeland Security Acquisition Regulation (HSAR).

DATES: Comments are encouraged and will be accepted until October 22, 2007. This process is conducted in accordance with 5 CFR 1320.1

ADDRESSES: Comments and questions about this Information Collection Request should be forwarded to the Acquisition Policy and Legislation Office, Attn: Kathy Strouss for the Department of Homeland Security, Office of the Chief Procurement Officer, Room 3114, Washington, DC 20528.

FOR FURTHER INFORMATION CONTACT: Kathy Strouss, 202-447-5300 (this is not a toll free number).

SUPPLEMENTARY INFORMATION: The Department of Homeland Security (DHS), Office of the Chief Procurement Officer requires a renewal request and a revision of an existing OMB Control number for four forms in the HSAR 48 CFR Chapter 30. This notice provides a request for renewal of the designated OMB Control Number 1600-0002 previously granted in September 2004 on the following four forms: DHS Form 0700-01, DHS Form 0700-02, DHS Form 0700-03, and DHS Form 0700-04. These four forms will be used by contractors and/or contract employees during contract administration. A fifth form, DHS Form 0700-05, which was included with initial clearance and approval for this OMB control number 1600-0002 in September 2004, is obsolete due to recent changes in the Federal Acquisition Regulation (FAR) 48 CFR Chapter 2. The change to FAR Part 45 was effective June 14, 2007 and removed previously existing annual contractor reporting requirements. The DHS Form 0700-05 supported the collection of the annual contractor report. A HSAR change will include designation of the DHS Form 0700-05, Contractor Report of Government Property as obsolete. No extension of the collection is requested for this form. DHS Form 0700-04, Employee Claim for Wage Restitution, requires an amendment to reflect a name change. The office designated for receipt of the claim currently appears as “The General Accounting Office” but the name has changed to “The Government Accountability Office”. No other amendments to the DHS HSAR forms are anticipated. The Office of Management and Budget is particularly interested in comments regarding the following:

1. Whether the collection of information is necessary for the proper performance of the function of the agency, including whether the information shall have practical utility;

2. The accuracy of the agency's estimate of the burden of the collection of information;

3. Ways to enhance the quality, utility, and clarity of the information to collected;

4. Ways to minimize the information collection burden.

5. Estimates of capital or start-up costs and costs of operation, maintenance, and purchase of services to provide information.

Analysis

Agency: Department of Homeland Security, Office of the Chief Procurement Officer, Acquisition Policy and Legislation Office.

Title: Information collection authority under Homeland Security Acquisition Regulation (HSAR). Form(s): DHS Form 0700-01, Cumulative Claim and Reconciliation Statement; DHS Form 0700-02, Contractor's Assignment of Refunds, Rebates, Credits and other Amounts; DHS Form 0700-03, Contractor's Release; DHS Form 0700-04, Employee Claim for Wage Restitution; and DHS Form 0700-05, Contractor Report of Government Property.

OMB Number: 1600—0002.

Affected Public: Businesses and individuals seeking and who are currently contracting with the DHS.

Annual Estimated Burden: The annual estimated burden is 7,101 hours.

Nature of burden | Total annual paper burden (number of respondents x estimated time per respondent × frequency) = total burden hours
Formula | R = number of respondents | R × T × F = B
| T = time per respondent
| F = frequency
| B = Burden

*Submit forms to provide the data required by various FAR clauses to facilitate contract closeout:

Form | Formula > R × T x F = | Burden > B
DHS Form 0700-01 | 589 × 1 × 1 | 589
DHS Form 0700-02 | 589 × 1 × 1 | 589
DHS Form 0700-03 | 5,898 × 1 × 1 | 5,898

*Submit claim form for nonpayment of wages. Information needed to seek restitution, via the Government Accountability Office (GAO) for contractor employees:

Form | Formula > R × T × F = | Burden > B
DHS Form 0700-04 | 25 × 1 × 1 | = 25

Total Burden Cost (capital/startup): $0.00.

Total Burden Cost (operating/maintaining): $0.00.

The asterisk (*) denotes that the requested information is, in the strictest sense of the word, contract administration data. It is not data of a general nature solicited from the public at large. This information is furnished to the Government by contractors who are being paid to meet all the terms and conditions of the contract.

Scott Charbo,
Chief Information Officer.

[FR Doc. E7-16642 Filed 8-22-07; 8:45 am]

BILLING CODE 4410-10-P